DEPARTMENT OF AGRICULTURE

Submission for OMB Review; Comment Request

March 18, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 22, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Report of Acreage; Noninsured Crop Disaster Assistance Program.

OMB Control Number: 0560-0004.

Summary of Collection: 7 U.S.C. 7333(b)(3) specifically requires, for crops and commodities covered by the Noninsured Crop Disaster Assistance Program (NAP), annual reports of acreage planted and prevented from being planted must be reported, as required by the Secretary, by the designated acreage reporting data for the crop and location as established by the Secretary. The report of acreage is conducted on an annual basis and is used by the Farm Service Agency (FSA) county offices to determine eligibility for benefits that are available to producers on the farm. Respondents must provide the information each year because variables such as previous year experience, weather occurrences and projections, market demand, new farming techniques and personal preferences affect the amount of land being farmed, the mix of crops planted, and the projected harvest. Prior year information while useful is not sufficient on its own. Therefore, respondents must supply on a yearly basis current data on a program by the final reporting date established for their county to qualify for NAP assistance. The “Modernize and Innovate the Delivery of Agricultural System” (MIDAS) is FSA's initiative to improve the delivery of FSA farm program benefits and services through the reengineering of farm program business processes and the adoption of enhanced and modernized information technology.

Need and Use of the Information: FSA will collect information verbally from the producers during visits to the county offices. FSA will collect one or more of the following data elements, as required: crop planted, planting date, crop's intended use, type or variety, practice (irrigated or non-irrigated), acres, location of the crop (tract and field), and the producer's percent share in the crop along with the names of other producers having an interest in the crop. Once the information is collected and eligibility established, the information is used throughout the crop year to ensure the producer remains compliant with program provisions. NAP requires crop, commodity, and acreage information collection on a program year basis. Failure to collect the data on that basis would result in program overpayments through producer ineligibility, incorrect acres, or incorrect shares of the crop.

Description of Respondents: Individuals or households.

Number of Respondents: 291,500.

Frequency of Responses: Reporting: Annually.

Total Burden Hours: 510,125.

Ruth Brown,
Departmental Information Collection Clearance Officer.

[FR Doc. 2013-06553 Filed 3-21-13; 8:45 am]

BILLING CODE 3410-05-P